DEPARTMENT OF COMMERCE

Minority Business Development Agency

15 CFR Part 1400

[Docket No. 120517080-2284-03]

Petition for Inclusion of the Arab-American Community in the Groups Eligible for MBDA Services

AGENCY: Minority Business Development Agency, Commerce.

ACTION: Notice of proposed rulemaking and request for comments; amendment.

SUMMARY: The Minority Business Development Administration publishes this notice to extend the date on which it plans to make its decision on a petition from the American-Arab Anti-Discrimination Committee requesting formal designation from July 30, 2012 to August 30, 2012.

FOR FURTHER INFORMATION CONTACT: For further information about this Notice, contact Josephine Arnold, Minority Business Development Agency, 1401 Constitution Avenue NW., Room 5053, Washington, DC 20230, (202) 482-2332.

SUPPLEMENTARY INFORMATION: On May 30, 2012, the Minority Business Development Agency (MBDA) published a notice of proposed rulemaking and request for comments regarding a petition received on January 11, 2012 from the American-Arab Anti-Discrimination Committee (ADC) requesting formal designation of Arab-Americans as a minority group that is socially or economically disadvantaged pursuant to 15 CFR Part 1400. The Notice included a thirty-day comment period that ended on June 29, 2012, but also stated that MBDA will make a decision on the petition no later than June 27, 2012. On June 12, 2012, MBDA published a notice in the Federal Register extending the date for making its decision to July 30, 2012. The Agency has determined that an additional thirty (30) day period for consideration of the issues addressed in the petition is necessary so that the agency can complete its independent review of the issues addressed in the petition and comments before making a decision. Therefore, the Agency has determined that the time in which it will make its decision on the petition will be no later than August 30, 2012. This extension will not prejudice the petitioner.

Minority Business Development Agency.
David Hinson,
National Director.

[FR Doc. 2012-18955 Filed 8-2-12; 8:45 am]

BILLING CODE 3510-21-P